DEPARTMENT OF ENERGY

Federal Energy Regulatory Commission

[Project No. P-2509-051]

PE Hydro Generation, LLC; Notice of Reasonable Period of Time for Water Quality Certification Application

On February 28, 2025, PE Hydro Generation, LLC (PE Hydro) submitted to the Federal Energy Regulatory Commission (Commission) documentation from Virginia Department of Environmental Quality (Virginia DEQ) that it received PE Hydro's request for a Clean Water Act section 401(a)(1) water quality certification as required by 40 CFR 121.5, for the above captioned project on December 17, 2024. Pursuant to section 4.34(b)(5), 5.23(b), 153.4, or 157.22 of the Commission's regulations,¹ we hereby notify Virginia DEQ of the following:

¹ 18 CFR 4.34(b)(5), 5.23(b), 153.4, and 157.22.

Date of Receipt of the Certification Request: December 17, 2024.

Reasonable Period of Time to Act on the Certification Request: One year, December 17, 2025.

If Virginia DEQ fails or refuses to act on the water quality certification request on or before the above date, then the certifying authority is deemed waived pursuant to section 401(a)(1) of the Clean Water Act, 33 U.S.C. 1341(a)(1).

Dated: March 12, 2025.
Debbie-Anne A. Reese,
Secretary.

[FR Doc. 2025-04485 Filed 3-18-25; 8:45 am]

BILLING CODE 6717-01-P